DEPARTMENT OF TRANSPORTATION

Research and Special Programs Administration

[Docket No. RSPA-03-14793 (Notice No. 03-6)]

Hazardous Materials: Regulations for the Safe Transport of Radioactive Material (TS-R-1); Public Meeting

AGENCY: Research and Special Programs Administration (RSPA), DOT.

ACTION: Notice of public meeting and request for written comments.

SUMMARY: RSPA will conduct a public meeting and accept written comments pertaining to 63 proposed changes to the International Atomic Energy Agency's (IAEA) Regulations for the Safe Transport of Radioactive Materials, TS-R-1, scheduled for revision in the year 2005. Interested persons are invited to attend.

DATES: Public meeting. The public meeting will be held on July 22, 2003 from 9:30 a.m. to 11:30 a.m.

Comments. Comments must be received by August 8, 2003.

ADDRESSES: Public meeting. The meeting will be held at Department of Transportation Headquarters, Nassif Building, 400 Seventh Street, SW., Washington DC, 20590-0001, in room 6244.

Comments. You may submit comments identified by the docket number (RSPA-03-14793 (Notice No. 03-6)) by any of the following methods:

• Web Site: http://dms.dot.gov. Follow the instructions for submitting comments on the DOT electronic docket site.

• Fax: 1-202-493-2251.

• Mail: Docket Management System; U.S. Department of Transportation, 400 Seventh Street, SW., Nassif Building, Room PL-401, Washington, DC 20590-001.

• Hand Delivery: At the public meeting held July 22, 2003 or to the Docket Management System; Room PL-401 on the plaza level of the Nassif Building, 400 Seventh Street, SW., Washington, DC between 9:00 am and 5:00 pm, Monday through Friday, except Federal Holidays.

• Federal eRulemaking Portal: Go to http://www.regulations.gov. Follow the online instructions for submitting comments.

Instructions: All submissions must include the agency name and docket number for this notice. For detailed instructions on submitting comments, see the Public Participation heading of the Supplementary Information section of this document. Note that all comments received will be posted without change to http://dms.dot.gov including any personal information provided. Please see the Privacy Act heading under Supplementary Information.

Docket: For access to the docket to read background documents or comments received, go to http://dms.dot.gov at any time or to the Docket Management System (see ADDRESSES).

FOR FURTHER INFORMATION CONTACT: Mr. Rick Boyle, Office of Hazardous Material Technology, U.S. Department of Transportation, Nassif Building, 400 Seventh Street, SW., Washington DC, 20590-0001; (202) 366-2993; rick.boyle@rspa.dot.gov.

SUPPLEMENTARY INFORMATION:

I. Background

The purpose of this meeting is to receive public comments on the transport regulation changes proposed by the International Atomic Energy Agency (IAEA) as part of its ongoing regulatory review process. These comments will be used to develop U.S. positions on the 63 proposed changes for the IAEA regulatory review meeting scheduled for November 10-14, 2003, in Bonn, Germany. The public is invited to attend without prior notification. Due to heightened security measures at DOT Headquarters, participants are encouraged to arrive early to allow time to undergo the security checks necessary to obtain access to the building.

The regulatory changes proposed by IAEA are available on the Internet at http://hazmat.dot.gov/files/IAEA_TS-R-1_rev_prop.pdf. A consolidated draft of the endorsed proposed TS-R-1 revision may be downloaded at http://hazmat.dot.gov/files/IAEA_TS-R-1_rev_draft.pdf. Although not required, electronic submission using the standard comment form that can be downloaded at http://hazmat.dot.gov/files/comment_form_prop_chgs.doc is preferred.

II. Public Participation

Comments should identify the docket number (RSPA-03-14793 (Notice No. 03-6)) and if sent by mail, comments are to be submitted in two copies. Persons wishing to receive confirmation of receipt of their comments should include a self-addressed stamped postcard. Internet users may access all comments received by the U.S. Department of Transportation at http://dms.dot.gov.

III. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or may visit http://dms.dot.gov.

Issued in Washington, DC, on June 4, 2003.
Robert A. McGuire,
Associate Administrator for Hazardous Materials Safety.

[FR Doc. 03-14585 Filed 6-9-03; 8:45 am]

BILLING CODE 4910-60-P